DEPARTMENT OF HEALTH AND HUMAN SERVICES

Health Resources and Services Administration

Children's Hospitals Graduate Medical Education (CHGME) Payment Program

AGENCY: Health Resources and Services Administration, HHS.

ACTION: Notice of Children's Hospitals Graduate Medical Education (CHGME) Payment Program conference calls.

SUMMARY: This document announces scheduled CHGME Payment Program conference calls for calendar year 2002. The purpose for these conference calls is to provide technical assistance related to the CHGME Payment Program.

DATES: The conference calls will be held on Friday, January 25, 2002, from 1:30 p.m. to 3:30 p.m. EST; Friday, April 26, 2002, from 1:30 p.m. to 3:30 p.m. EST; and Friday, October 25, 2002, from 1:30 p.m. to 3:30 p.m. EST.

FOR FURTHER INFORMATION CONTACT: Ayah E. Johnson, Ph.D., telephone: (301) 443-1058; Division of Medicine and Dentistry, Bureau of Health Professions, Room 9A-27, Parklawn Building, 5600 Fishers Lane, Rockville, Maryland 20857; or by e-mail at: ajohnson@hrsa.gov.

SUPPLEMENTARY INFORMATION: The CHGME Payment Program, as authorized by section 340E of the Public Health Service (PHS) Act (the Act) (42 U.S.C. 256e), provides funds to children's hospitals to address disparity in the level of Federal funding for children's hospitals (as opposed to other teaching hospitals) that result from Medicare funding for graduate medical education (GME). Pub. L. 106-310 amended the CHGME statute to continue the program until Federal fiscal year (FY) 2005.

The statute authorized $280 million for both direct and indirect medical education payments in FY 2000, $285 million in FFY 2001, and for each of the FFY 2002 through FFY 2005 such sums as necessary. In FFY 2000, Congress appropriated $40 million for the program and $235 million in FY 2001. These funds have supported over 4,000 residents receiving training in children's teaching hospitals in 31 States.

The agenda for the conference calls will include but not be limited to: (1) Welcome and opening comments; (2) news releases/updates; (3) reminders; and (4) “on the horizon” topics of interest. Time will also be available for a question and answer period. Agenda items will be determined as priorities dictate. Participating children's hospitals will be queried for relevant agenda issues/topics. Individuals are expected to register for participation in the conference call(s). Information about the Children's Hospitals Graduate Medical Education Payment Program can be found on the CHGME Web site (bhpr.hrsa.gov/childrenshospitalgme).

Prior to a scheduled conference call, a notification letter with detailed information for participation in the call and a registration form will be sent to representatives of participating hospitals. Other interested parties may obtain details for participating in the conference call by accessing the CHGME Web site.

Dated: December 21, 2001.
James J. Corrigan,
Associate Administrator for Management and Program Support.

[FR Doc. 01-32041 Filed 12-28-01; 8:45 am]

BILLING CODE 4165-15-P